DEPARTMENT OF HOMELAND SECURITY

Federal Emergency Management Agency

44 CFR Part 67

[Docket ID FEMA-2011-0002; Internal Agency Docket No. FEMA-B-1197]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 19, 2011.

ADDRESSES: The corresponding preliminary Flood Insurance Rate Map (FIRM) for the proposed BFEs for each community is available for inspection at the community's map repository. The respective addresses are listed in the table below.

You may submit comments, identified by Docket No. FEMA-B-1197, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Kane County, Illinois, and Incorporated Areas
Big Rock Creek | Approximately 1.68 miles downstream of Jericho Road (at the Kendall County boundary) | None | +648 | Unincorporated Areas of Kane County, Village of Big Rock.
| Approximately 1.0 mile upstream of Price Road (at the West Branch Big Rock Creek and East Branch Big Rock Creek confluence) | None | +689
Duffin Drain | At the Sugar Grove Branch confluence | None | +678 | Unincorporated Areas of Kane County, Village of Big Rock, Village of Sugar Grove.
| At the downstream side of Wheeler Road | None | +702
East Branch Big Rock Creek | At the Big Rock Creek confluence | None | +689 | Unincorporated Areas of Kane County, Village of Big Rock.
| At the Malgren Drain confluence | None | +709
East Branch Big Rock Creek | At the upstream side of Owens Road | None | +779 | Unincorporated Areas of Kane County.
| At the East Branch Big Rock Creek Tributary 2 confluence | None | +810
East Branch Big Rock Creek Tributary 2 | At the East Branch Big Rock Creek confluence | None | +810 | Unincorporated Areas of Kane County.
| Approximately 0.47 miles upstream of Keslinger Road | None | +846
Malgren Drain | At the East Branch Big Rock Creek confluence | None | +709 | Unincorporated Areas of Kane County, Village of Big Rock.
| At the downstream side of Swan Road | None | +741
Sugar Grove Branch | At the Welch Creek confluence | None | +677 | Unincorporated Areas of Kane County.
| Approximately 1,150 feet downstream of Fay's Lane | None | +680
Welch Creek | At the Big Rock Creek confluence | None | +665 | Unincorporated Areas of Kane County, Village of Big Rock, Village of Sugar Grove.
| At the downstream side of Keslinger Road | None | +813
West Branch Big Rock Creek | At the Big Rock Creek confluence | None | +689 | Unincorporated Areas of Kane County.
| At the downstream side of U.S. Route 30 | None | +720
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Kane County
Maps are available for inspection at the Kane County Government Center, Building A, 719 Batavia Avenue, Geneva, IL 60134.
Village of Big Rock
Maps are available for inspection at the Village Hall, 408 Rhodes Street, Big Rock, IL 60511.
Village of Sugar Grove
Maps are available for inspection at the Village Hall, 10 Municipal Drive, Sugar Grove, IL 60554.
Osceola County, Michigan (All Jurisdictions)
Hersey River | Approximately 125 feet upstream of the Muskegon River confluence | +960 | +961 | Township of Hersey, Village of Hersey.
| Approximately 750 feet upstream of the Muskegon River confluence | +960 | +961
Muskegon River | Approximately 1,500 feet downstream of 4th Street | None | +959 | Township of Hersey.
| Approximately 1,565 feet upstream of 4th Street | None | +962
Muskegon River | At the upstream side of Main Street | None | +992 | Township of Evart.
| Approximately 0.4 miles upstream of Main Street | None | +993
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Evart
Maps are available for inspection at the Township Hall, 327 South Main Street, Evart, MI 49631.
Township of Hersey
Maps are available for inspection at the Township Hall, 108 South Main Street, Hersey, MI 49639.
Village of Hersey
Maps are available for inspection at the Hersey Township Hall, 108 South Main Street, Hersey, MI 49639.
Laurens County, South Carolina, and Incorporated Areas
Beards Creek | Approximately 170 feet downstream of Little Acres Road | None | +447 | City of Clinton, Unincorporated Areas of Laurens County.
| Approximately 490 feet upstream of Brook Road | None | +564
Burnt Mill Creek | At the Little River confluence | None | +501 | Unincorporated Areas of Laurens County.
| Approximately 1,750 feet upstream of State Route 127 | None | +558
Burnt Mill Creek Tributary 16 | At the Burnt Mill Creek confluence | None | +583 | City of Laurens, Unincorporated Areas of Laurens County.
| Approximately 1.0 mile upstream of the Burnt Mill Creek confluence | None | +658
Burnt Mill Creek Tributary 21 | At the Burnt Mill Creek confluence | None | +586 | Unincorporated Areas of Laurens County.
| Approximately 1,735 feet upstream of Strickland Avenue | None | +620
Burnt Mill Creek Tributary 5 | Approximately 0.5 mile downstream of Roper Road | None | +514 | Unincorporated Areas of Laurens County.
| Approximately 1.9 miles upstream of Roper Road | None | +596
Burnt Mill Creek Tributary 9 | At the Burnt Mill Creek confluence | None | +530 | Unincorporated Areas of Laurens County.
| Approximately 1.4 miles upstream of Easy Road | None | +637
Burnt Mill Creek Tributary 9.2.2 | At the Burnt Mill Creek Tributary 9 confluence | None | +582 | Unincorporated Areas of Laurens County.
| Approximately 1.0 mile upstream of the Burnt Mill Creek Tributary 9 confluence | None | +632
Bush River | At the downstream side of State Route 560 | None | +509 | City of Clinton, Unincorporated Areas of Laurens County.
| Approximately 1.9 miles upstream of State Route 72 | None | +629
Cane Creek | Approximately 2.2 miles downstream of State Route 72 | None | +442 | Unincorporated Areas of Laurens County.
| Approximately 3.8 miles upstream of Harris Springs Road | None | +529
Lake Greenwood | Entire shoreline within community | None | +442 | Unincorporated Areas of Laurens County.
Little River | Approximately 1,075 feet upstream of Holmes Bridge Road | None | +496 | City of Laurens, Unincorporated Areas of Laurens County.
| Approximately 1.0 mile upstream of Ghost Creek Road | None | +606
Little River Tributary 1 | At the Little River confluence | +545 | +542 | Unincorporated Areas of Laurens County.
| Approximately 1,850 feet upstream of the Little River confluence | +545 | +544
Little River Tributary 2 | At the Little River confluence | +555 | +551 | City of Laurens.
| Approximately 495 feet upstream of River Street | +555 | +554
Little River Tributary 25 | At the Little River confluence | None | +508 | Unincorporated Areas of Laurens County.
| Approximately 1.0 mile upstream of the Little River confluence | None | +537
Little River Tributary 28 | At the Little River confluence | None | +519 | Unincorporated Areas of Laurens County.
| Approximately 0.8 mile upstream of the Little River confluence | None | +540
Little River Tributary 3 | At the Little River confluence | +568 | +563 | City of Laurens.
| Approximately 0.5 mile upstream of the Little River confluence | +568 | +567
Little River Tributary 31 | At the Little River confluence | None | +530 | Unincorporated Areas of Laurens County.
| Approximately 0.8 mile upstream of East Jerry Road | None | +547
Little River Tributary 37 | At the Little River confluence | None | +544 | City of Laurens.
| Approximately 1,190 feet upstream of East Farley Avenue | None | +609
Reedy Fork Creek | At the Little River confluence | +565 | +558 | City of Laurens.
| Approximately 715 feet downstream of Anderson Drive | +571 | +570
Saluda River | Approximately 3.9 miles downstream of U.S. Route 25 | None | +448 | Unincorporated Areas of Laurens County.
| Approximately 230 feet upstream of U.S. Business Route 25 | None | +531
Scout Branch | Approximately 310 feet upstream of Pamela Lane | None | +641 | City of Laurens.
| Approximately 0.6 mile upstream of Pamela Lane | None | +670
Shell Creek | Approximately 1,330 feet upstream of the Bush River confluence | None | +541 | City of Clinton, Unincorporated Areas of Laurens County.
| Approximately 1,060 feet upstream of Springdale Drive | None | +607
South Durbin Creek | Approximately 1,500 feet downstream of Boyd Street | None | +743 | Unincorporated Areas of Laurens County.
| Approximately 675 feet downstream of Boyd Street | None | +749
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Clinton
Maps are available for inspection at City Hall, 211 North Broad Street, Clinton, SC 29325.
City of Laurens
Maps are available for inspection at City Hall, 126 East Public Square, Laurens, SC 29360.
Unincorporated Areas of Laurens County
Maps are available for inspection at the Laurens County Courthouse, 3 Catherine Street, Laurens, SC 29360.
Pennington County, South Dakota, and Incorporated Areas
Arrowhead Creek | At the Rapid Creek confluence | +3317 | +3318 | City of Rapid City.
| Approximately 408 feet upstream of Summerset Drive | None | +3490
Box Elder Creek through Box Elder | Approximately 0.8 mile downstream of 151st Avenue | None | +2994 | City of Box Elder, Unincorporated Areas of Pennington County.
| At the downstream side of 146th Avenue (Bennett Road) | None | +3085
Box Elder Creek through Box Elder Overflow | At the Box Elder Creek confluence | None | +3039 | City of Box Elder, Unincorporated Areas of Pennington County.
| At the Box Elder Creek divergence | None | +3082
East Tributary to Box Elder Creek | At the North Tributary to Box Elder Creek confluence | None | +2998 | City of Box Elder, Unincorporated Areas of Pennington County.
| Approximately 515 feet upstream of G Avenue | None | +3168
Ellsworth AFB Alert Apron Drainage | At the Box Elder Creek through Box Elder Overflow confluence | None | +3056 | City of Box Elder, Unincorporated Areas of Pennington County.
| Approximately 1.0 mile upstream of Kenney Road | None | +3186
Ellsworth AFB West Drainage Basin | At the Box Elder Creek through Box Elder Overflow confluence | None | +3071 | City of Box Elder, Unincorporated Areas of Pennington County.
| At the downstream side of 225th Street | None | +3156
Haines Avenue Drainage Basin | At the Rapid Creek confluence | None | +3213 | City of Rapid City.
| Approximately 340 feet upstream of Curtis Street | None | +3285
Meade-Hawthorne Drainage Basin | At the Rapid Creek confluence | None | +3141 | City of Rapid City.
| At the downstream side of Saint Anne Street | None | +3236
North Tributary to Box Elder Creek | At the Box Elder Creek confluence | +2999 | +2994 | City of Box Elder, Unincorporated Areas of Pennington County.
| Approximately 540 feet upstream of 225th Street | None | +3117
Northwest Tributary to Box Elder Creek | At the North Tributary to Box Elder Creek confluence | +3047 | +3045 | City of Box Elder, Unincorporated Areas of Pennington County.
| Approximately 280 feet upstream of 225th Street | None | +3255
Rapid Creek through Silver City | At the Pactola Reservoir confluence | None | +4593 | Unincorporated Areas of Pennington County.
| Approximately 2.7 miles upstream of the Pactola Reservoir confluence | None | +4667
Red Rock Canyon | At the Rapid Creek confluence | +3378 | +3375 | City of Rapid City, Unincorporated Areas of Pennington County.
| Approximately 1.0 mile upstream of Red Rock Canyon Road | None | +3545
Robinsdale Drain | At the Southeast Drainage Basin confluence | +3170 | +3172 | City of Rapid City.
| Approximately 220 feet upstream of 5th Street | None | +3340
South Canyon Creek | At the Lime Creek confluence | None | +3334 | City of Rapid City, Unincorporated Areas of Pennington County.
| Approximately 1,030 feet upstream of Nemo Road | None | +3571
Southeast Drainage Basin | At the Rapid Creek confluence | None | +3133 | City of Rapid City, Unincorporated Areas of Pennington County.
| Approximately 1,180 feet upstream of Old Folsom Road | None | +3223
Tributary 1 to East Tributary to Box Elder Creek | At the East Tributary to Box Elder Creek confluence | None | +3077 | City of Box Elder.
| Approximately 0.5 mile upstream of the East Tributary to Box Elder Creek confluence | None | +3153
Truck Bypass | At the Southeast Drainage Basin confluence | None | +3213 | City of Rapid City, Unincorporated Areas of Pennington County.
| Approximately 1,870 feet upstream of State Highway 16 | None | +3310
West Tributary to Box Elder Creek | At the East Tributary to Box Elder Creek confluence | +3026 | +3025 | City of Box Elder, Unincorporated Areas of Pennington County.
| Approximately 700 feet upstream of Kenney Road | None | +3130
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Box Elder
Maps are available for inspection at 520 North Ellsworth Road, Suite 9C, Box Elder, SD 57719.
City of Rapid City
Maps are available for inspection at 300 6th Street, Rapid City, SD 57701.
Unincorporated Areas of Pennington County
Maps are available for inspection at 832 Saint Joseph Street, Rapid City, SD 57701.

(Catalog of Federal Domestic Assistance No. 97.022, “Flood Insurance.”)

Dated: June 10, 2011.
Sandra K. Knight,
Deputy Federal Insurance and Mitigation Administrator, Mitigation, Department of Homeland Security, Federal Emergency Management Agency.

[FR Doc. 2011-15317 Filed 6-20-11; 8:45 am]

BILLING CODE 9110-12-P